NATIONAL AERONAUTICS AND SPACE ADMINISTRATION

14 CFR Parts 1245, 1262, 1263, 1264, and 1266

[Docket No: NASA-2015-0007]

RIN 2700-AE21

Administrative Updates

AGENCY: National Aeronautics and Space Administration.

ACTION: Direct final rule.

SUMMARY: This direct final rule makes nonsubstantive changes to agency regulations to correct citation and spelling errors.

DATES: This direct final rule is effective on September 14, 2015. Comments due on or before August 17, 2015. If adverse comments are received, NASA will publish a timely withdrawal of the rule in the Federal Register.

ADDRESSES: Comments must be identified with RIN 2700-AE21 and may be sent to NASA via the Federal E-Rulemaking Portal: http://www.regulations.gov. Follow the online instructions for submitting comments. Please note that NASA will post all comments on the Internet with changes, including any personal information provided.

FOR FURTHER INFORMATION CONTACT: James A. Reistrup, Senior Attorney, Office of the General Counsel, NASA Headquarters, telephone (202) 358-2027.

SUPPLEMENTARY INFORMATION:

Direct Final Rule and Significant Adverse Comments

NASA has determined this rulemaking meets the criteria for a direct final rule because it makes nonsubstantive changes to correct citations and spelling errors within the parts listed. No opposition to the changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

The revision to these rules are part of NASA's retrospective plan under E.O. 13563 completed in August 2011. NASA's full plan can be accessed on the Agency's open Government Web site at http://www.nasa.gov/open/. With the passage of Public Law 111-314, Enactment of Title 51—National and Commercial Space Programs, Dec. 18, 2010, some of the NASA Space Act citations for the United States Code in Title 14 of the CFR needed to be updated to Title 51. In the process of reviewing the regulations for NASA's retrospective plan that are maintained by the Office of the General Counsel, the following parts were identified as needing citation updates and some also needed spelling corrections for a few misspelled words:

PART 1245—PATENTS AND OTHER INTELLECTUAL PROPERTY RIGHTS, Subpart 3—NASA Foreign Patent Program

PART 1262—EQUAL ACCESS TO JUSTICE ACT IN AGENCY PROCEEDINGS

PART 1263—DEMAND FOR INFORMATION OR TESTIMONY SERVED ON AGENCY EMPLOYEES; PROCEDURES

PART 1264—IMPLEMENTATION OF THE PROGRAM FRAUD CIVIL PENALTIES ACT OF 1986

PART 1266—CROSS-WAIVER OF LIABILITY

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders (EO) 13563 and 12866 direct agencies to assess all costs and benefits of available regulatory alternatives and, if regulation is necessary, to select regulatory approaches that maximize net benefits (including potential economic, environmental, public health and safety effects, distributive impacts, and equity). EO 13563 emphasizes the importance of quantifying both costs and benefits, of reducing costs, of harmonizing rules, and of promoting flexibility. This rule has been designated as “not significant” under section 3(f) of EO 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes one section from Title 14 of the CFR and, therefore, does not have a significant economic impact on a substantial number of small entities.

Review Under the Paperwork Reduction Act

This direct final rule does not contain any information collection requirements subject to the Paperwork Reduction Act of 1995 (44 U.S.C. 3501 et seq.).

Review Under EO 13132

EO 13132, “Federalism,” 64 FR 43255 (August 4, 1999) requires regulations be reviewed for Federalism effects on the institutional interest of states and local governments, and if the effects are sufficiently substantial, preparation of the Federal assessment is required to assist senior policy makers. The amendments will not have any substantial direct effects on state and local governments within the meaning of the EO. Therefore, no Federalism assessment is required.

List of Subjects in 14 CFR Parts 1245, 1262, 1263, 1264, and 1266

Patents, Equal access to justice, Penalties.

Accordingly, under the authority of the National Aeronautics and Space Act, as amended, [51 U.S.C. 20113], NASA amends parts 1245, 1262, 1263, 1264, and 1266 of title 14 as follows:

PART 1245—PATENTS AND OTHER INTELLECTUAL PROPERTY RIGHTS

Subpart 3—NASA Foreign Patent Program

1. The authority citation for part 1245, subpart 3, is revised to read as follows:

Authority: 51 U.S.C. 20135(g) and E.O. 9865, 12 FR 3907, 3 CFR, 1943-1948 Comp., p. 651, and E.O. 10096, 15 FR 389, 3 CFR, 1949-1953 Comp., p. 292.

2. In § 1245.301, paragraph (a), the last sentence is revised to read as follows:

§ 1245.301 Inventions under NASA contracts.

(a) * * *However, any such waiver is subject to the reservation by the Administrator of the license required to be retained by NASA under 51 U.S.C. 20135(g) of the National Aeronautics and Space Act, as amended.

* * * * *

PART 1262—EQUAL ACCESS TO JUSTICE ACT IN AGENCY PROCEEDINGS

3. The authority citation for part 1262 is revised to read as follows:

Authority: 5 U.S.C. 504; 51 U.S.C. 20113(a).

§ 1262.201 [Amended]

4. In § 1262.201, paragraph (d), remove the word “determing,” and add in its place the word “determining.”

§ 1262.202 [Amended]

5. In § 1262.202, paragraph (a), remove the word “defiined,” and add in its place the word “defined.”

PART 1263—DEMAND FOR INFORMATION OR TESTIMONY SERVED ON AGENCY EMPLOYEES; PROCEDURES

6. The authority citation for part 1263 is revised to read as follows:

Authority: 44 U.S.C. 3102, 51 U.S.C. 20113(a).

PART 1264—IMPLEMENTATION OF THE PROGRAM FRAUD CIVIL PENALTIES ACT OF 1986

7. The authority citation for part 1264 is revised to read as follows:

Authority: 31 U.S.C. 3809, 51 U.S.C. 20113(a).

§ 1264.109 [Amended]

8. In § 1264.109, paragraph (c), remove the word “penalities,” and add in its place the word “penalties.”

§ 1264.111 [Amended]

9. In § 1264.111, paragraph (b)(4), remove the word “precedures,” and add in its place the word “procedures.”

§ 1264.116 [Amended]

10. In § 1264.116, paragraph (b), remove the word “Paticipate,” and add in its place the word “Participate.”

§ 1264.124 [Amended]

11. In § 1264.124, the first sentence, remove word “supoena” and add in its place the word “subpoena” and remove the word “supoenaed,” and add in its place the word “subpoenaed.”

PART 1266—CROSS-WAIVER OF LIABILITY

12. The authority citation for part 1266 is revised to read as follows:

Authority: 51 U.S.C. 20139 and 51 U.S.C. 20113(a), (e), and (f).

Cheryl E. Parker,
NASA Federal Register Liaison Officer.

[FR Doc. 2015-17214 Filed 7-15-15; 8:45 am]

BILLING CODE P